DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau.

Title: American Community Survey Methods Panel Tests, 2017 Adaptive Strategy Test.

OMB Control Number: 0607-0936.

Form Number(s): ACS-1, ACS CATI, ACS CAPI, ACS Internet.

Type of Request: Non-substantive Change Request.

Number of Respondents: 288,000.

Average Hours per Response: 40 minutes.

Burden Hours: No additional burden hours are requested under this non-substantive change request.

Needs and Uses: The American Community Survey (ACS) collects detailed socioeconomic data from about 3.5 million households in the United States and 36,000 in Puerto Rico each year. The ACS also collects detailed socioeconomic data from about 195,000 residents living in Group Quarter (GQ) facilities. An ongoing data collection effort with an annual sample of this magnitude requires that the ACS continue research, testing, and evaluations aimed at reducing respondent burden, improving data quality, achieving survey cost efficiencies, and improving ACS questionnaire content and related data collection materials. The ACS Methods Panel is a research program that is designed to address and respond to issues and survey needs.

Residents of sampled housing units are initially invited to self-respond to the survey through a series of mailings. Mail materials are sent to sampled housing units using an internet push strategy. This method encourages households to respond via Internet in the first two mailings and then provides a paper questionnaire in the third (sent about two weeks after the first mailing), followed by additional reminders. The internet was added as a mode of data collection to the ACS in 2013. The addition of this mode helped lower the data collection costs for the ACS and provided a convenient way for respondents to complete the survey. However, this frustrates some respondents who do not have Internet access or prefer to respond by paper. In fact, the addition of the internet mode resulted in self-response rates decreasing in certain areas (Baumgardner, S., Griffin, D., & Raglin, D. 2014. “The Effects of Adding an Internet Response Option to the American Community Survey”, 2014 American Community Survey Research and Evaluation Report Memorandum Series, ACS14-RER-21. Retrieved March 6, 2017 from https://www.census.gov/library/working-papers/2014/acs/2014_Baumgardner_04.html). Those less likely to respond by internet include those 65 and older, adults with less than a high school education, and those living in households with a total income of less than $20,000 (Pew Research Center, September 22, 2015). “Coverage Error in Internet Surveys.” Retrieved on March 15, 2017 from http://www.pewresearch.org/2015/09/22/coverage-error-in-internet-surveys).

The Census Bureau seeks to test an additional mailing strategy in areas with a low likelihood to respond via the internet. The new strategy would involve mailing a paper questionnaire to these areas earlier in the mailing process, giving households the option to respond by paper or via the internet. This strategy is called the Choice method. The purpose of this test is to study the impact of offering a choice in response modes on self-response, cost, and the precision of the estimates. The Census Bureau proposes to test this strategy as part of the October 2017 ACS production panel (clearance number: 0607-0810, expires 6/30/2018). Thus, there is no increase in burden from this test since it will result in the same burden estimate per interview (40 minutes).

Census tracts will be identified as Choice census tracts based on a method similar to that being developed for the 2020 Census that looks at varying combinations of low availability of high-speed internet connections, historically low ACS survey response via the internet, and a large proportion of the population aged 65 and older, for example. Based on current analysis and estimates, of the over 70,000 tracts in the United States, approximately 33 percent would be identified as Choice tracts. Of the approximately 288,000 housing units in a given month of ACS sample, approximately 100,000 would be in the Choice tracts. For testing purposes, approximately half of the housing units in Choice tracts will be sent the choice mailing materials, while the other half will receive production mailing materials. All households in tracts not selected to receive the Choice method will receive the current production materials following the Push mailing strategy.

The Census Bureau proposes to evaluate mailing strategies by comparing self-response rates and by comparing the final response rates, which include responses obtained via interviewer modes. This will help determine the impact of offering a paper questionnaire earlier in the mailout process. For this comparison, a two-tailed test (at the α = 0.1 level) will be used so that the Census Bureau can measure the impact on the evaluation measure in either direction with 80 percent power. The sample size will be able to detect differences of approximately 1 percentage point between the self-response return rates of the identified tracts receiving the Push materials versus those receiving the Choice materials. Additional metrics of interest include response rates by sub-groups, overall costs, and the impact on reliability of the ACS estimates.

Affected Public: Individuals or households.

Frequency: One-time test as part of the monthly American Community Survey.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-09727 Filed 5-12-17; 8:45 am]

BILLING CODE 3510-07-P